DEPARTMENT OF ENERGY

Federal Energy Regulatory Commission

[Project No. 4639-032]

Ampersand Christine Falls Hydro, LLC; Notice of Intent To File License Application, Filing of Pre-Application Document, and Approving Use of the Traditional Licensing Process

a. Type of Application: Notice of Intent to File License Application and Request to Use the Traditional Licensing Process.

b. Project No.: 4639-032.

c. Date filed: September 20, 2018.

d. Submitted by: Ampersand Christine Falls Hydro, LLC.

e. Name of Project: Christine Falls Hydroelectric Project.

f. Location: Located on the Sacandaga River near Speculator, Hamilton County, New York. The project does not occupy any federal lands.

g. Filed Pursuant to: 18 CFR 5.3 of the Commission's regulations.

h. Potential Applicant Contact: Mr. Sayad Moudachirou, Licensing Manager, Ampersand Christine Falls Hydro LLC, 717 Atlantic Avenue, Suite 1A, Boston, MA 02111, Phone: 617-933-7206, Email: sayad@ampersandenergy.com.

i. FERC Contact: Brandi Sangunett, Phone: (202) 502-8393, Email: brandi.sangunett@ferc.gov.

j. Ampersand Christine Falls Hydro, LLC filed its request to use the Traditional Licensing Process on September 20, 2018. Ampersand Christine Falls Hydro, LLC provided public notice of its request on September 24, 2018. In a letter dated November 1, 2018, the Director of the Division of Hydropower Licensing approved Ampersand Christine Falls Hydro, LLC's request to use the Traditional Licensing Process.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the New York State Historic Preservation Office, as required by section 106, National Historic Preservation Act, and the implementing regulations of the Advisory Council on Historic Preservation at 36 CFR 800.2.

l. With this notice, we are designating Ampersand Christine Falls Hydro, LLC as the Commission's non-federal representative for carrying out informal consultation pursuant to section 7 of the Endangered Species Act and section 305(b) of the Magnuson-Stevens Fishery Conservation and Management Act; and consultation pursuant to section 106 of the National Historic Preservation Act.

m. Ampersand Christine Falls Hydro, LLC filed a Pre-Application Document (PAD; including a proposed process plan and schedule) with the Commission, pursuant to 18 CFR 5.6 of the Commission's regulations.

n. A copy of the PAD is available for review at the Commission in the Public Reference Room or may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. The licensee states its unequivocal intent to submit an application for a new license for Project No. 4639. Pursuant to 18 CFR 16.8, 16.9, and 16.10 each application for a new license and any competing license applications must be filed with the Commission at least 24 months prior to the expiration of the existing license. All applications for license for this project must be filed by September 30, 2021.

p. Register online at http://www.ferc.gov/docs-filing/esubscription.asp to be notified via email of new filing and issuances related to this or other pending projects. For assistance, contact FERC Online Support.

Dated: November 2, 2018.
Kimberly D. Bose,
Secretary.

[FR Doc. 2018-24452 Filed 11-7-18; 8:45 am]

BILLING CODE 6717-01-P